OFFICE OF PERSONNEL MANAGEMENT

5 CFR Part 630

RIN 3206-AI35

Family and Medical Leave

AGENCY: Office of Personnel Management.

ACTION: Correction to final rule.

SUMMARY: The Office of Personnel Management inadvertently deleted the last two sentences of § 630.1207, paragraph (j). This document corrects this error.

EFFECTIVE DATE: June 7, 2000.

FOR FURTHER INFORMATION CONTACT: Jo Ann Perrini, (202) 606-2858, FAX (202) 606-0824, or email to payleave@opm.gov.

SUPPLEMENTARY INFORMATION:

Accordingly, page 26487, first column, § 630.1207(j) of the final rule published on May 8, 2000, is corrected to read as follows:

§ 630.1207 [Corrected]

* * * * *

(j) At its own expense, an agency may require subsequent medical recertification on a periodic basis, but not more than once every 30 calendar days, for leave taken for purposes relating to pregnancy, chronic conditions, or long-term conditions, as these terms are used in the definition of serious health condition in § 630.1202. For leave taken for all other serious health conditions and including leave taken on an intermittent or reduced leave schedule, if the health care provider has specified on the medical certification a minimum duration of the period of incapacity, the agency may not request recertification until that period has passed. An agency may require subsequent medical recertification more frequently than every 30 calendar days, or more frequently than the minimum duration of the period of incapacity specified on the medical certification, if the employee requests that the original leave period be extended, the circumstances described in the original medical certification have changed significantly, or the agency receives information that casts doubt upon the continuing validity of the medical certification.

* * * * *

U.S. Office of Personnel Management.
Janice R. Lachance,
Director.

[FR Doc. 00-15642 Filed 6-20-00; 8:45 am]

BILLING CODE 6325-01-P